DEPARTMENT OF ENERGY

Federal Energy Regulatory Commission

[Project No. 5089-027]

Fall River Rural Electric Cooperative, Inc.; Notice of Waiver Period for Water Quality Certification Application

On December 10, 2025, Fall River Electric Cooperative, Inc. (Fall River) submitted to the Federal Energy Regulatory Commission (Commission) a copy of its application for a Clean Water Act section 401(a)(1) water quality certification filed with the Idaho Department of Environmental Quality (Idaho DEQ), as defined in 40 CFR 121.5. Pursuant to the Commission's regulations,¹ we hereby notify Idaho DEQ of the following:

¹ 18 CFR 5.23(b)(2).

Date Idaho DEQ received the certification request: December 5, 2025.

Reasonable Period of Time to Act on the Certification Request: One year [December 5, 2026].

If Idaho DEQ fails or refuses to act on the water quality certification request on or before the above date, then the certifying authority is deemed waived pursuant to section 401(a)(1) of the Clean Water Act, 33 U.S.C. 1341(a)(1).

For public inquiries and assistance with making filings such as interventions, comments, or requests for rehearing, contact the Office of Public Participation at (202) 502-6595 or OPP@ferc.gov.

(Authority: 18 CFR 2.1)

Dated: December 15, 2025.
Debbie-Anne A. Reese,
Secretary.

[FR Doc. 2025-23295 Filed 12-17-25; 8:45 am]

BILLING CODE 6717-01-P